DEPARTMENT OF HEALTH AND HUMAN SERVICES

National Institutes of Health

National Heart, Lung, and Blood Institute; Amended Notice of Meeting

Notice is hereby given of a change in the meeting of the National Asthma Education Prevention Program Coordinating Committee, which was published in the Federal Register on July 08, 2022, 87 FR 40853.

The NAEPPC meeting is being amended to change the date to September 28th, 2022. The meeting is open to the public.

The Zoom Connection for public attendance is: https://nih.zoomgov.com/j/1603194596?pwd=ZnhJV3BLcEFOVThvUUdhQnNGOG5xZz09.

Dated: August 11, 2022.
David W. Freeman,
Program Analyst, Office of Federal Advisory Committee Policy.

[FR Doc. 2022-17704 Filed 8-16-22; 8:45 am]

BILLING CODE 4140-01-P